DEPARTMENT OF TRANSPORTATION

Federal Aviation Administration

14 CFR Part 39

[Docket No. FAA-2007-28228; Directorate Identifier 2006-SW-08-AD; Amendment 39-15410; AD 2008-05-16]

RIN 2120-AA64

Airworthiness Directives; Eurocopter France Model EC130 B4 Helicopters

AGENCY: Federal Aviation Administration, DOT.

ACTION: Final rule.

SUMMARY: This amendment adopts a new airworthiness directive (AD) for Eurocopter France (ECF) Model EC130 B4 helicopters that requires, within 110 hours time-in-service (TIS), modifying and testing the wiring of the battery overheat sensing circuit. This amendment is prompted by a malfunction in the battery overheat sensing circuit found during a scheduled inspection. The actions specified by this AD are intended to correct the connection of the thermal switch to the cockpit indicator light, to notify the flight crew of an overheated battery, and to prevent a thermal runaway of the battery, an in-flight fire, and subsequent loss of control of the helicopter.

DATES: Effective April 16, 2008.

The incorporation by reference of certain publications listed in the regulations is approved by the Director of the Federal Register as of April 16, 2008.

ADDRESSES: You may get the service information identified in this AD from American Eurocopter Corporation, 2701 Forum Drive, Grand Prairie, Texas 75053-4005, telephone (972) 641-3460, fax (972) 641-3527.

EXAMINING THE DOCKET: You may examine the docket that contains this AD, any comments, and other information on the Internet at http://www.regulations.gov or at the Docket Operations Office, West Building Ground Floor, Room W12-140, 1200 New Jersey Avenue, SE., Washington, DC.

FOR FURTHER INFORMATION CONTACT: Carroll Wright, Aviation Safety Engineer, FAA, Rotorcraft Directorate, Regulations and Policy Group, Fort Worth, Texas 76193-0111, telephone (817) 222-5120, fax (817) 222-5961.

SUPPLEMENTARY INFORMATION: A proposal to amend 14 CFR part 39 to include an AD for the specified model helicopters was published in the Federal Register on May 21, 2007 (72 FR 28458). That action proposed to require, within 110 hours TIS, modifying and testing the wiring of the battery overheat sensing circuit.

The Direction Generale De L'Aviation Civile (DGAC), the airworthiness authority for France, notified the FAA that an unsafe condition may exist on ECF Model EC130 B4 helicopters. The DGAC advises that a malfunction of the battery overheat sensing function, due to incorrect wiring of the battery overheat sensing circuit, was found during a scheduled maintenance. The DGAC also advises that failure of the battery overheat sensing function to operate could give rise to a fire in the event of thermal runaway of the battery.

ECF has issued Alert Telex No. 24A001, dated December 20, 2005 (AT). The AT specifies modifying and testing the battery overheat sensing circuit (MOD 073572) for batteries located in the right-hand side baggage compartment (not modified per OP-3685 or 073739) and for batteries in the tailboom (modified per OP-3685 or 073739). The DGAC classified this AT as mandatory and issued AD No. F-2006-010, dated January 4, 2006, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed but with one editorial change. In the summary and the discussion paragraphs of the NPRM, we stated that the modification and retesting would be required within 100 hours TIS. In the compliance paragraph of the NPRM, we stated 110 hours TIS, which is correct. The 100-hour TIS compliance time is incorrect. We have corrected the compliance time in this final rule and determined that air safety and the public interest require adopting the rule as proposed with the changes described previously. The FAA has determined that these changes will neither increase the economic burden on any operator nor increase the scope of the AD.

The FAA estimates that this AD will affect 68 helicopters of U.S. registry. Modifying and testing the overheat sensing circuit wiring will take about 1 work hour per helicopter at an average labor rate of $80 per work hour. Based on these figures, we estimate the total cost impact of the AD on U.S. operators to be $5440.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2008-05-16 Eurocopter France: Amendment 39-15410; Docket No. FAA-2007-28228; Directorate Identifier 2006-SW-08-AD.

Applicability: Model EC130 B4 helicopters not modified per MOD 073572, with the battery in either the right-hand baggage compartment or the tailboom, certificated in any category.

Compliance: Required within 110 hours time-in-service, unless accomplished previously.

To correct the connection of the thermal switch to the cockpit indicator light, to notify the flight crew of an overheated battery, and to prevent a thermal runaway of the battery, an in-flight fire, and subsequent loss of control of the helicopter, do the following:

(a) Modify the wiring of the battery overheat sensing circuit and test the battery overheat sensing indicator light by following the Accomplishment Instructions, paragraph 2.B.1. or 2.B.2., depending on the location of the battery, of Eurocopter Alert Telex No. 24A001, dated December 20, 2005.

(b) Modifying and testing the battery overheat sensing circuit by following paragraph (a) of this AD is terminating action for the requirements of this AD.

(c) To request a different method of compliance or a different compliance time for this AD, follow the procedures in 14 CFR 39.19. Contact the Manager, Rotorcraft Directorate, FAA, ATTN: Carroll Wright, Aviation Safety Engineer, Regulations and Policy Group, Fort Worth, Texas 76193-0111, telephone (817) 222-5120, fax (817) 222-5961, for information about previously approved alternative methods of compliance.

(d) Modifying the wiring of the battery overheat sensing circuit and testing the battery overheat sensing indicator light shall be done in accordance with the specified portions of Eurocopter Alert Telex No. 24A001, dated December 20, 2005. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(e) This amendment becomes effective on April 16, 2008.

Note: The subject of this AD is addressed in Direction Generale De L'Aviation Civile (France) AD No. F-2006-010, dated January 4, 2006.

Issued in Fort Worth, Texas, on February 26, 2008.
Mark R. Schilling,
Acting Manager, Rotorcraft Directorate, Aircraft Certification Service.

[FR Doc. E8-4462 Filed 3-11-08; 8:45 am]

BILLING CODE 4910-13-P